DEPARTMENT OF ENERGY

Federal Energy Regulatory Commission

[Project No. 13-023]

Green Island Power Authority; Notice of Meeting and Teleconference

a. Date and Time of Meeting: Wednesday March 21, 2012, beginning at 10 a.m. EST.

b. Place: Commission Headquarters, 888 First Street NE., Washington, DC 20426, Room 62-26.

c. FERC Contact: Tom Dean, (202) 502-6041.

d. Purpose of Meeting: To discuss authorizations and approvals that may be needed for, and the U.S. Army Corps of Engineers' (Corps) position on, proposed modifications to the facilities and operation of the Corps' Green Island Lock and Dam (see attached agenda for complete list of topics).

e. All local, state, and federal agencies, Indian tribes, and other interested parties are invited to participate either in person or by phone. Please call Tom Dean at (202) 502-6041 by Wednesday, March 14, 2012, to receive specific instructions on how to participate.

f. FERC conferences are accessible under section 508 of the Rehabilitation Act of 1973. For accessibility accommodations please send an email to accessibility@ferc.gov or call toll free (866) 208-3372 (voice) or 202-502-8659 (TTY), or send a FAX to 202-208-2106 with the required accommodations.

g. A summary of the teleconference will be placed in the public record for the project.

Dated: February 10, 2012.
Nathaniel J. Davis, Sr.,
Deputy Secretary.

[FR Doc. 2012-3631 Filed 2-15-12; 8:45 am]

BILLING CODE 6717-01-P